SMALL BUSINESS ADMINISTRATION

[Disaster Declaration # 12290 and # 12291]

Illinois Disaster Number IL-00025

AGENCY: U.S. Small Business Administration.

ACTION: Amendment 2.

SUMMARY: This is an amendment of the Presidential declaration of a major disaster for the State of Illinois (FEMA-1935-DR), dated 08/19/2010.

Incident: Severe Storms and Flooding

Incident Period: 07/19/2010 through 08/07/2010.

DATES: Effective Date: 10/11/2010.

Physical Loan Application Deadline Date: 11/17/2010.

EIDL Loan Application Deadline Date: 05/19/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Illinois, dated 08/19/2010 is hereby amended to extend the deadline for filing applications for physical damages as a result of this disaster to 11/17/2010.

All other information in the original declaration remains unchanged.

(Catalog of Federal Domestic Assistance Numbers 59002 and 59008)

James E. Rivera,
Associate Administrator for Disaster Assistance.

[FR Doc. 2010-26304 Filed 10-18-10; 8:45 am]

BILLING CODE 8025-01-P